DEPARTMENT OF THE INTERIOR

National Park Service

[NPS-WASO-NAGPRA-NPS0039251; PPWOCRADN0-PCU00RP14.R50000]

Notice of Intended Disposition: U.S. Department of Agriculture, Forest Service, Santa Fe National Forest, Santa Fe, NM

AGENCY: National Park Service, Interior.

ACTION: Notice.

SUMMARY: In accordance with the Native American Graves Protection and Repatriation Act (NAGPRA), the U.S. Department of Agriculture, Forest Service, Santa Fe National Forest (Forest Service), intends to carry out the disposition of human remains and removed from Federal or Tribal lands to the lineal descendants, Indian Tribe, or Native Hawaiian organization with priority for disposition in this notice.

DATES: Disposition of the human remains in this notice may occur on or after January 29, 2025. If no claim for disposition is received by December 30, 2025, the human remains in this notice will become unclaimed human remains.

ADDRESSES: Kathryn Turner, U.S. Forest Service, Santa Fe National Forest, 11 Forest Lane, Santa Fe, NM 87508, telephone (505) 438-5380, email kathryn.turner@usda.gov.

SUPPLEMENTARY INFORMATION: This notice is published as part of the National Park Service's administrative responsibilities under NAGPRA. The determinations in this notice are the sole responsibility of the Forest Service, and additional information on the human remains in this notice, including the results of consultation, can be found in the related records. The National Park Service is not responsible for the identifications in this notice.

Abstract of Information Available

Based on the information available, human remains representing, at least, 10 individuals have been reasonably identified. No associated funerary objects are present.

In 1996, 2005, and 2006, human remains representing 10 individuals were recovered from Forest Service site 03-10-02-00389/LA 49387 by the U.S. Forest Service after being found eroding from the cut bank along the west edge of the road beneath the site. Prior to recovery consultation was conducted with the State Historic Preservation Office and the Pueblo of Jemez, New Mexico. The individuals were sent to the University of Oregon for analysis shortly thereafter and later returned to the Santa Fe National Forest. There are possible associated funerary objects which include pottery sherds, flaked stone, and charcoal.

Site 03-10-02-00389/LA 49387 is located within the Cuba Ranger District, Santa Fe National Forest, Rio Arriba County, NM. The site is located on a terrace west of Forest Road 517 and consists of two features, a rectangular shaped unit house and a possible pithouse. The artifact assemblage is comprised of pottery sherds, flaked stone, and ground stone. Diagnostic pottery types documented include Gallina Black-on-gray, corrugated, and utility wares. Flaked stone includes chert, quartzite, and obsidian. The structure type and presence of Gallina Black-on-gray pottery suggests that this site was occupied by the Gallina from A.D. 1100 to A.D. 1300.

Determinations

The U.S. Forest Service has determined that:

• The human remains described in this notice represent the physical remains of, at least, 10 individuals of Native American ancestry.

• Based on geographic location the Hopi Tribe of Arizona; Jicarilla Apache Nation, New Mexico; Mescalero Apache Tribe of the Mescalero Reservation, New Mexico; Navajo Nation, Arizona, New Mexico, & Utah; Ohkay Owingeh, New Mexico; Pueblo of Acoma, New Mexico; Pueblo of Cochiti, New Mexico; Pueblo of Isleta, New Mexico; Pueblo of Jemez, New Mexico; Pueblo of Laguna, New Mexico; Pueblo of Nambé, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; Southern Ute Indian Tribe of the Southern Ute Reservation, New Mexico; Ute Mountain Ute Tribe; and the Zuni Tribe for the Zuni Reservation, New Mexico has priority for disposition of the human remains described in this notice.

Claims for Disposition

Written claims for disposition of the human remains in this notice must be sent to the appropriate official identified in this notice under ADDRESSES. If no claim for disposition is received by December 30, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after January 29, 2025. If competing claims for disposition are received, the U.S. Forest Service must determine the most appropriate claimant prior to disposition. Requests for joint disposition of the human remains are considered a single request and not competing requests. The U.S. Forest Service is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: December 19, 2024.
Melanie O'Brien,
Manager, National NAGPRA Program.

[FR Doc. 2024-31288 Filed 12-27-24; 8:45 am]

BILLING CODE 4312-52-P